INTERNATIONAL TRADE COMMISSION

Investigations Nos. 731-TA-624-625 (Review)

Helical Spring Lock Washers From China and Taiwan

Determinations

On the basis of the record ¹ developed in the subject five-year reviews, the United States International Trade Commission determines,² pursuant to section 751(c) of the Tariff Act of 1930 (19 U.S.C. 1675(c)), that revocation of the antidumping duty orders on helical spring lock washers from China and Taiwan would be likely to lead to continuation or recurrence of material injury to an industry in the United States within a reasonably foreseeable time.

¹ The record is defined in sec. 207.2(f) of the Commission's Rules of Practice and Procedure (19 CFR 207.2(f)).

² Vice Chairman Okun and Commissioner Miller dissenting with respect to Taiwan; Commissioner Askey not participating.

Background

The Commission instituted these reviews on November 2, 1999 (64 FR 59204) and determined on February 3, 2000, that it would conduct full reviews (65 FR 7890, February 16, 2000). Notice of the scheduling of the Commission's reviews and of a public hearing to be held in connection therewith was given by posting copies of the notice in the Office of the Secretary, U.S. International Trade Commission, Washington, DC, and by publishing the notice in the Federal Register on July 25, 2000 (65 FR 45801). The hearing was held in Washington, DC, on November 30, 2000, and all persons who requested the opportunity were permitted to appear in person or by counsel.

The Commission transmitted its determinations in these reviews to the Secretary of Commerce on January 25, 2001. The views of the Commission are contained in USITC Publication 3384 (January 2001), entitled Helical Spring Lock Washers from China and Taiwan: Investigations Nos. 731-TA-624-625 (Review).

Issued: January 25, 2001.
By order of the Commission.
Donna R. Koehnke,
Secretary.

[FR Doc. 01-2690 Filed 1-30-01; 8:45 am]

BILLING CODE 7020-02-P